DEPARTMENT OF COMMERCE

International Trade Administration

Quarterly Update to Annual Listing of Foreign Government Subsidies on Articles of Cheese Subject to an In-Quota Rate of Duty

AGENCY: Enforcement and Compliance, International Trade Administration Department of Commerce.

DATES: Applicable October 22, 2021

FOR FURTHER INFORMATION CONTACT: John Hoffner, AD/CVD Operations, Office III, Enforcement and Compliance, International Trade Administration, U.S. Department of Commerce, 1401 Constitution Ave. NW, Washington, DC 20230, telephone: (202) 482-3315.

SUPPLEMENTARY INFORMATION: On July 19, 2021, the Department of Commerce (Commerce), pursuant to section 702(h) of the Trade Agreements Act of 1979 (as amended) (the Act), published the quarterly update to the annual listing of foreign government subsidies on articles of cheese subject to an in-quota rate of duty covering the period January 1, 2021, through March 31, 2021.¹ In the First Quarter 2021 Update, we requested that any party that has information on foreign government subsidy programs that benefit articles of cheese subject to an in-quota rate of duty submit such information to Commerce.² We received no comments, information or requests for consultation from any party.

¹ See Quarterly Update to Annual Listing of Foreign Government Subsidies on Articles of Cheese Subject to an In-Quota Rate of Duty, 86 FR 38010 (July 19, 2021) (First Quarter 2021 Update).

² Id.

Pursuant to section 702(h) of the Act, we hereby provide Commerce's update of subsidies on articles of cheese that were imported during the period April 1, 2021, through June 30, 2021. The appendix to this notice lists the country, the subsidy program or programs, and the gross and net amounts of each subsidy for which information is currently available.

Commerce will incorporate additional programs which are found to constitute subsidies, and additional information on the subsidy programs listed, as the information is developed. Commerce encourages any person having information on foreign government subsidy programs which benefit articles of cheese subject to an in-quota rate of duty to submit such information in writing through the Federal eRulemaking Portal at http://www.regulations.gov, Docket No. ITA-2020-0005, “Quarterly Update to Cheese Subject to an In-Quota Rate of Duty.” The materials in the docket will not be edited to remove identifying or contact information, and Commerce cautions against including any information in an electronic submission that the submitter does not want publicly disclosed. Attachments to electronic comments will be accepted in Microsoft Word, Excel, or Adobe PDF formats only. All comments should be addressed to the Assistant Secretary for Enforcement and Compliance, U.S. Department of Commerce, 1401 Constitution Ave. NW, Washington, DC 20230.

This determination and notice are in accordance with section 702(a) of the Act.

Dated: October 18, 2021.
Ryan Majerus,
Deputy Assistant Secretary for Policy and Negotiations performing the non-exclusive functions and duties of the Assistant Secretary for Enforcement and Compliance.

Appendix—Subsidy Programs on Cheese Subject to an In-Quota Rate of Duty
Country | Program(s) | Gross ³ subsidy ($/lb) | Net ⁴ subsidy ($/lb)
27 European Union Member States ⁵ | European Union Restitution Payments | 0.00 | 0.00
Canada | Export Assistance on Certain Types of Cheese | 0.43 | 0.43
Norway | Indirect (Milk) Subsidy Consumer Subsidy | 0.00 | 0.00
| Total | 0.00 | 0.00
Switzerland | Deficiency Payments | 0.00 | 0.00

[FR Doc. 2021-23077 Filed 10-21-21; 8:45 am]

BILLING CODE 3510-DS-P